FEDERAL COMMUNICATIONS COMMISSION

Notice of Public Information Collection(s) Being Reviewed by the Federal Communications Commission, Comments Requested

May 23, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 3, 2001. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0629.

Title: Section 76.987 New Product Tiers.

Form Number: n/a.

Type of Review: Extension of a currently approved collection.

Respondents: Business and other for-profit entities.

Number of Respondents: 500.

Estimated Time Per Response: .5 hours.

Total Annual Burden to Respondents: The Commission estimates that approximately 500 NPT filings will be received each year. The average burden to cable operators to comply with this filing requirement is estimated to be .5 hours per filing. 500 filings × .5 hours = 250 burden hours. We estimate $17 per hour for individuals tasked with processing filings.

Total Annual Costs: $4,250 ($17 per hour × 250 filings per year = $4,250.)

Needs and Uses: Section 76.987(g) states that within 30 days of the offering of a new product tier (“NPT”), operators shall file with the Commission, a copy of the new rate card that contains the following information on their basic service tiers (“BSTs”), cable programming services tiers (“CPSTs”) and NPTs: (1) The names of the programming services contained on each tier, and (2) the price of each tier. Operators also must file with the Commission, copies of notifications that were sent to subscribers regarding the initial offering of NPTs. After this initial filing, cable operators must file updated rate cards and copies of customer notifications with the Commission within 30 days of rate or service changes affecting the NPT. The information collections are used by the Commission to verify compliance and to ensure that subscribers are given due notice of NPT offerings.

OMB Control Number: 3060-0313.

Title: Section 76.207 Political File.

Form Number: n/a.

Type of Review: Extension of a currently approved collection.

Respondents: Business or other for-profit entities.

Number of Respondents: 5,375.

Estimated Time Per Response: .25 hours.

Total Annual Burden to Respondents: The Commission estimates that approximately 5,375 cable systems in the nation will be required to keep a political file for an average of 4 candidates at an estimated recordkeeping burden of .25 hours per candidate, meaning 1 hour per cable system. 5,375 systems × 1 hour = 5,375 burden hours. We estimate an hourly wage of $18 per hour for individuals tasked with notification requirements.

Total Annual Costs: $96,750. (5,375 hours × $18 per hour = $96,750).

Needs and Uses: Section 76.207 requires every cable television system to keep and permit public inspection of a complete record (political file) of all requests for cablecast time made by or on behalf of candidates for public office, together with an appropriate notation showing the disposition made by the system of such requests, and the charges made, if any, if the request is granted. The disposition includes the schedule of time purchased, when the spots actually aired, the rates charged, and the classes of time purchased. Also, when free time is provided for use by or on behalf of candidates, a record of the free time provided is to be placed in the political file.

OMB Control Number: 3060-0500.

Title: Section 76.607 Resolution of Complaints.

Form Number: N/A.

Type of Review: Extension of a currently approved collection.

Respondents: Business or other for-profit entities.

Number of Respondents: 11,365.

Estimated Time Per Response: 18 hours.

Total Annual Burden to Respondents: Based on Commission records, the average burden for cable systems to advise subscribers at least once each calendar year of the procedures for resolution of complaints is estimated to be one hour per system. In addition, the average burden for required recordkeeping is 17 hours annually per system. (18 hours × 11,365 cable systems = 204,570 hours).

Total Annual Costs: $3,477,690.

Needs and Uses: Section 76.607 requires cable system operators to advise subscribers at least once each calendar year of the procedures for resolution of complaints about the quality of television signals delivered. This information collection requests that records be maintained by cable system operators on all such subscriber complaints and resolution of complaints for at least a one-year period.

OMB Control Number: 3060-0501.

Title: Section 76.206 Lowest unit charge.

Form Number: N/A.

Type of Review: Extension of a currently approved collection.

Respondents: Business or other for-profit entities.

Number of Respondents: 5,375.

Estimated Time Per Response: 14 hours.

Total Annual Burden to Respondents: Pursuant to Section 76.206, we estimate that each cable system will make advertising rate disclosures to an average of 4 candidates. The average burden on systems to disclose this information is estimated to be .5 hours per candidate. 5,375 systems × 2 hours = 10,750 hours. Each cable system will calculate its lowest unit charge semi-annually with an average burden of 10 hours per system. 5,375 systems × 2 calculations per year × 10 hours per calculation = 107,500 hours. Systems are also required to periodically review their advertising records. We estimate 2 reviews per system throughout the election period, undergoing a burden of 2 hours per review. 5,375 systems × 2 reviews × 2 hours = 21,500 hours. Total burden to respondents for this information collection = 139,750 hours.

Total Annual Costs: $2,515.500.

Needs and Uses: Section 76.206 requires cable system operators to disclose and make available to candidates all discount privileges available to commercial advertisers. In addition, section 76.206 requires cable systems to disclose any station practices offered to commercial advertisers that enhance the value of advertising spots and different classes of time (immediately preemptible, preemptible with notice, fixed, fire sale, and make good). It also requires cable systems to calculate the lowest unit charge.

OMB Control Number: 3060-0560.

Title: Section 76.911 Petition for Reconsideration of Certification.

Form Number: N/A.

Type of Review: Extension of a currently approved collection.

Respondents: Business or other for-profit entities, State, local or Tribal Government.

Number of Respondents: 45.

Estimated Time Per Response: 45.

Total Annual Burden to Respondents: 410 hrs.

Total Annual Costs: $26,120.

Needs and Uses: Cable television operators file petitions for reconsideration to challenge a franchising authority's certification. The Commission uses information derived from petitions for reconsideration of certification to resolve disputes concerning the presence or absence of effective competition in franchise areas and to determine whether there are grounds for denying franchising authority certifications to regulate rates.

OMB Control Number: 3060-0024.

Title: Section 76.29 Special temporary authority.

Form Number: N/A.

Type of Review: Extension of a currently approved collection.

Respondents: Business or other for-profit entities, State, local or Tribal Government.

Number of Respondents: 1.

Estimated Time Per Response: 3 hours.

Total Annual Burden to Respondents: 3.

Total Annual Costs: $122.00.

Needs and Uses: Section 76.29 permits flexibility as well as procedural specificity in applying for special deviations from Commission rules in situations requiring temporary and immediate action that would not be possible under the Commission's general rules. This benefit to the cable industry would not be possible if the Commission did not sponsor this information collection requirement.

OMB Control Number: 3060-0595.

Title: FCC Form 1210 Updating Maximum Permitted Rates for Regulated Cable Services and Equipment.

Form Number: FCC Form 1210.

Type of Review: Extension of currently approved collection.

Respondents: Business or other for-profit entities, State, Local or Tribal Government.

Number of Respondents: 6,000.

Estimated Time Per Response: 25 hours.

Total Annual Burden: 54,000.

Total Annual Costs: $3,008,000.

Needs and Uses: The FCC Form 1210 is used by cable operators to file for adjustments in maximum permitted rates for regulated services to reflect external costs. Regulated cable operators submit this form to local franchising authorities or the Commission (in situations where the Commission has assumed jurisdiction). It is also filed with the Commission when responding to a complaint filed with the Commission concerning cable programming service rates and associated equipment.

OMB Number: 3060-0982.

Title: Implementation of LPTV Digital Data Services Pilot Project.

Form Number: None.

Type of Review: Extension of currently approved collection.

Respondents: Business or other for-profit.

Number of Respondents: 14.

Estimated time per response: 0.25 hours-15 hours.

Frequency of Response: Recordkeeping, Third Party Disclosure, Reporting, on occasion, quarterly and annually.

Total annual burden: 672.

Costs to Respondents: $51,800.

Needs and Uses: This collection implements the provisions of the LPTV Pilot Project Digital Data Services Act (DDSA). The DDSA mandates that the Commission issue regulations establishing a pilot project pursuant to which specified LPTV licensees or permittees can provide digital data services to demonstrate the feasibility of using LPTV stations to provide high-speed wireless digital data service. The Commission is required to implement reporting requirements under the statute. The data collected will be used to ensure that the proposal will not cause interference to other authorized services and to evaluate the project.

Federal Communications Commission.
Magalie Roman Salas,
Secretary.

[FR Doc. 01-13894 Filed 6-1-01; 8:45 am]

BILLING CODE 6712-01-P